POSTAL SERVICE

Privacy Act of 1974; System of Records

AGENCY: Postal Service™.

ACTION: Notice of a modified system of records.

SUMMARY: In accordance with the Privacy Act of 1974, the United States Postal Service® (Postal Service) is revising the notice for Privacy Act System of Records USPS 100.000, General Personnel Records, and USPS 100.400, Personnel Compensation and Payroll Records.

DATES: These revisions will become effective without further notice on March 27, 2019 unless comments received on or before that date result in a contrary determination.

ADDRESSES: Comments may be mailed or delivered to the Privacy and Records Management Office, United States Postal Service, 475 L'Enfant Plaza SW, Room 1P830, Washington, DC 20260-1101. Copies of all written comments will be available at this address for public inspection and photocopying between 8 a.m. and 4 p.m., Monday through Friday.

FOR FURTHER INFORMATION CONTACT: Janine Castorina, Chief Privacy and Records Management Officer, Privacy and Records Management Office, 202-268-3069 or privacy@usps.gov.

SUPPLEMENTARY INFORMATION: This notice is in accordance with the Privacy Act requirement that agencies publish their systems of records in the Federal Register when there is a revision, change, or addition, or when the agency establishes a new system of records. As detailed below, the Postal Service has determined that USPS 100.000 General Personnel Records and USPS 100.400 Personnel Compensation and Payroll Records should be revised to modify Routine Uses of Records Maintained in the System, Including Categories of Users and Purposes of Such Uses. The changes are being made to permit disclosure of current and former postal employee records to credit bureaus and prospective employers.

Pursuant to 5 U.S.C. 552a(e)(11), interested persons are invited to submit written data, views, or arguments on this proposal. A report of the proposed revisions has been sent to Congress and to the Office of Management and Budget for their evaluations. The Postal Service does not expect these amended systems of records to have any adverse effect on individual privacy rights. The notices for USPS 100.000 General Personnel Records and USPS 100.400 Personnel Compensation and Payroll Records, provided below in their entirety, are as follows:

SYSTEM NAME AND NUMBER

USPS 100.000, General Personnel Records

SECURITY CLASSIFICATION:

None.

SYSTEM LOCATION:

All USPS facilities and personnel offices; Integrated Business Solutions Services Centers; National Personnel Records Center; Human Resources Information Systems; Human Resources Shared Services Center; Headquarters; Computer Operations Service Centers; and contractor sites.

SYSTEM MANAGER(S):

Director, Human Resources, USPS OIG, 1735 N Lynn Street, Arlington, VA 22209-2020, (703) 248-2197.

Vice President, Employee Resource Management, United States Postal Service, 475 L'Enfant Plaza SW, Washington, DC 20260-4200; (202) 268-3783.

Vice President, Labor Relations, United States Postal Service, 475 L'Enfant Plaza SW, Washington, DC 20260-4100; (202) 268-7447.

AUTHORITY FOR MAINTENANCE OF THE SYSTEM:

39 U.S.C. 401, 410, 1001, 1005, and 1206.

PURPOSE(S) OF THE SYSTEM:

1. To perform routine personnel functions.

2. To maintain a source of readily available information on employees for administrative purposes.

3. To administer the grievance and appeal procedure for nonbargaining unit employees.

4. To match a vacant position to the most qualified candidate in bids for preferred assignment.

5. To provide public relations information on USPS management personnel.

6. To provide federal benefit information to retired employees.

CATEGORIES OF INDIVIDUALS COVERED BY THE SYSTEM:

Current and former USPS employees, their family members, and former spouses who apply and qualify for federal employee benefits under public law.

CATEGORIES OF RECORDS IN THE SYSTEM:

1. Employee, former employee, and family member information: Name(s), Social Security Number(s), Employee Identification Number, date(s) of birth, place(s) of birth, marital status, postal assignment information, work contact information, home address(es) and phone number(s), personal email address, finance number(s), duty location, and pay location.

2. Official Personnel Folder (OPF) or eOPF (electronic version): Records related to appointment support, prior federal civilian employment, postal employment, personnel actions, anniversary dates, retirement, benefits, and compensation.

3. Automated employee information: Records generated, approved, and stored by electronic means such as Notification of Personnel Actions, health benefit elections, tax withholding changes, and address changes.

4. Reference copies of all discipline or adverse actions: Letters of warning; notices of removal, suspension and/or reduction in grade or pay; letters of decisions; and documents relating to these actions. These are used only to refute inaccurate statements by witnesses before a judicial or administrative body. They may not be maintained in the employee's OPF or eOPF but must be maintained in a separate file by Labor Relations.

5. Nonbargaining unit employee discipline, grievance, and appeals records.

6. Job bidding records: Records related to the employee's bid for a preferred assignment.

7. Biographical summaries: Records and photographs used for public relations purposes.

8. Level 2 supervisors' notes: Records of discussions, letters of warning, and any other relevant official records being maintained at the supervisor's discretion for the purpose of enabling effective management of personnel. (A level 2 supervisor directly supervises bargaining unit employees.)

9. Email Addresses: personal email address(es) for retired employees are retained in a separate database and file from other current and former employee information.

RECORD SOURCE CATEGORIES:

Employees; employees' supervisors; USPS customers; law enforcement agencies; individuals who are personal references; former employers, including other federal agencies; and other systems of records.

ROUTINE USES OF RECORDS MAINTAINED IN THE SYSTEM, INCLUDING CATEGORIES OF USERS AND PURPOSES OF SUCH USES:

Standard routine uses 1. through 9. apply. In addition:

a. Job bidding records may be disclosed on official bulletin boards in Postal Service facilities and to supervisory and other managerial organizations recognized by USPS.

b. Records pertaining to financial institutions and to nonfederal insurance carriers and benefits providers elected by an employee may be disclosed for the purposes of salary payment or allotments, eligibility determination, claims, and payment of benefits.

c. Records may be disclosed to the National Labor Relations Board (NLRB) in response to its request for investigative purposes, to the extent that the requested information is relevant and necessary.

d. Disclosure of the employee name and past or present grade, duty station, dates of employment, job title, and salary information may be made to a credit bureau or other commercial firm from which a current or former postal employee is seeking credit.

e. Disclosure of a current or former postal employee's name and past or present grade, duty station, dates of employment, job title, salary information, date and reason for separation may be made to a prospective employer upon request. With respect to former employees, the reason for separation must be limited to one of the following terms: Retired, resigned, or separated.

POLICIES AND PRACTICES FOR STORAGE OF RECORDS:

Automated database, computer storage media, digital files, and paper files. Duplicates of records in the OPF or eOPF and automated employee data may be maintained for localized employee administration or supervision. Records may be filed at offices other than where OPF or eOPF is located, or may be duplicated at a site closer to where the employee works.

POLICIES AND PRACTICES FOR RETRIEVAL OF RECORDS:

By name, Social Security Number, Employee Identification Number, or duty or pay location.

POLICIES AND PRACTICES FOR RETENTION AND DISPOSAL OF RECORDS:

1. Permanent OPF or eOPF records are permanently retained. Temporary OPF or eOPF records are generally retained 2 years and are purged upon the employee's separation from USPS.

2. Except as otherwise provided by a collective bargaining agreement, original or copies of discipline or adverse actions are maintained up to 2 years; or, if an additional or more recent disciplinary action has been taken, for a longer period. After 2 years, or lesser time specified in the decision, the employee may request the disciplinary record be purged from the OPF or eOPF provided no subsequent discipline was issued. Records that support a PS Form 50, Notification of Personnel Action, e.g., the separation of an employee for cause or the resignation of an employee pending charges, are considered permanent records and may not be purged at the request of an employee.

3. Reference copies of discipline or adverse actions. These records are kept for historical purposes and are not to be used for decisions about the employee. The retention of these records may not exceed 10 years beyond the employee's separation date. The records are maintained longer if the employee is rehired during the 10-year period. They may not be maintained in the employee's OPF or eOPF, but must be maintained in a separate file by Labor Relations.

4. Grievance and appeal records of nonbargaining unit employees are retained 7 years.

5. Job bidding records are retained 2 years.

6. Biographical summaries are retained for the duration of employment.

7. Records to provide federal benefit information to retired employees are retained for 10 years. Records may be purged at the request of the retired employee.

Records existing on paper are destroyed by burning, pulping, or shredding. Records existing on computer storage media are destroyed according to the applicable USPS media sanitization practice.

ADMINISTRATIVE, TECHNICAL, AND PHYSICAL SAFEGUARDS:

Paper records, computers, and computer storage media are located in controlled-access areas under supervision of program personnel. Access to these areas is limited to authorized personnel, who must be identified with a badge. Nonbargaining unit employee discipline, grievance, and appeals records maintained outside the OPF (hard or soft copy) are kept in locked filing cabinets or secured record storage rooms; and related automated records are protected with password security. Computers are protected by mechanical locks, card key systems, or other physical access control methods. The use of computer systems is regulated with installed security software, computer logon identifications, and operating system controls including access controls, terminal and transaction logging, and file management software.

RECORD ACCESS PROCEDURES:

Requests for access must be made in accordance with the Notification Procedure above and USPS Privacy Act regulations regarding access to records and verification of identity under 39 CFR 266.6.

CONTESTING RECORD PROCEDURES:

See Notification Procedures below and Record Access Procedures above.

NOTIFICATION PROCEDURES:

Individuals wanting to know if information about them is maintained in this system must address inquiries to the facility head where currently or last employed. Headquarters employees must submit inquiries to Corporate Personnel Management, 475 L'Enfant Plaza SW, Washington, DC 20260. Inquiries must include full name, Social Security Number or Employee Identification Number, name and address of facility where last employed, and the dates of USPS employment.

EXEMPTIONS PROMULGATED FOR THE SYSTEM:

Records in this system that have been compiled in reasonable anticipation of a civil action or proceeding are exempt from individual access as permitted by 5 U.S.C. 552a(d)(5). The USPS has also claimed exemption from certain provisions of the Act for several of its other systems of records at 39 CFR 266.9. To the extent that copies of exempted records from those other systems are incorporated into this system, the exemptions applicable to the original primary system continue to apply to the incorporated records.

HISTORY:

January 26, 2018, 83 FR 3777; July 19, 2013, 78 FR 43247; February 22, 2013, 78 FR 12368; June 17, 2011, 76 FR 35483; April 29, 2005, 70 FR 22516; December 16, 2002, 67 FR 77086.

SYSTEM NAME AND NUMBER

USPS 100.400, Personnel Compensation and Payroll Records

SECURITY CLASSIFICATION:

None.

SYSTEM LOCATION:

USPS Area and District Human Resources offices, the Human Resources Shared Services Center, Integrated Business Solutions Services Centers, Computer Operations Services Centers, Accounting Services Centers, other area and district facilities, Headquarters, contractor sites, and all organizational units.

SYSTEM MANAGER(S):

Chief Human Resource Officer and Executive Vice President, United States Postal Service, 475 L'Enfant Plaza SW, Washington, DC 20260-4000; (202) 268-2828.

Vice President, Employee Resource Management, United States Postal Service, 475 L'Enfant Plaza SW, Washington, DC 20260-4200; (202) 268-3783.

Vice President, Controller, United States Postal Service, 475 L'Enfant Plaza SW, Washington, DC 20260-5200; (202) 268-5521.

AUTHORITY FOR MAINTENANCE OF THE SYSTEM:

39 U.S.C. 401, 409, 410, 1001, 1003, 1004, 1005, and 1206; and 29 U.S.C. 2601 et seq.

PURPOSE(S) OF THE SYSTEM:

1. To support all necessary compensation and payroll activities and related management functions.

2. To generate lists of employee information for home mailings, dues membership, and other personnel support functions.

3. To generate retirement eligibility information and analysis of employees in various salary ranges.

4. To administer the purchase of uniforms.

5. To administer monetary awards programs and employee contests.

6. To detect improper payment related to injury compensation claims.

7. To adjudicate employee claims for loss or damage to their personal property in connection with or incident to their postal duties.

8. To process garnishment of employee wages.

9. To support statistical research and reporting.

10. To generate W-2 and 1095-C information for use with external third party tax preparation services at the request of the individual employee.

CATEGORIES OF INDIVIDUALS COVERED BY THE SYSTEM:

1. Current and former USPS employees and postmaster relief/leave replacement employees.

2. Current and former employees' family members, beneficiaries, and former spouses who apply and qualify for benefits.

3. An agent or survivor of an employee who makes a claim for loss or damage to personal property.

CATEGORIES OF RECORDS IN THE SYSTEM:

1. Employee and family member information: Name(s), Social Security Number(s), Employee Identification Number, ACE ID, date(s) of birth, postal assignment information, work contact information, home address(es) and phone number(s), finance number(s), occupation code; occupation title; duty location, and pay location.

2. Compensation and payroll information: Records related to payroll, annual salary, hourly rate, Rate Schedule Code (RSC) or pay type, payments, deductions, compensation, and benefits; uniform items purchased; proposals and decisions under monetary awards; suggestion programs and contests; injury compensation; monetary claims for personal property loss or damage; and garnishment of wages.

RECORD SOURCE CATEGORIES:

Employees; employees' supervisor or manager; other systems of records; claimants or their survivors or agents who make monetary claims; witnesses; investigative sources; courts; and insurance companies.

ROUTINE USES OF RECORDS MAINTAINED IN THE SYSTEM, INCLUDING CATEGORIES OF USERS AND PURPOSES OF SUCH USES:

Standard routine uses 1. through 9. apply. In addition:

a. Records pertaining to financial institutions and to nonfederal insurance carriers and benefits providers elected by an employee may be disclosed for the purposes of salary payment or allotments, eligibility determination, claims, and payment of benefits.

b. Records pertaining to supervisors and postmasters may be disclosed to supervisory and other managerial organizations recognized by USPS.

c. Records pertaining to recipients of monetary awards may be disclosed to the news media when the information is of news interest and consistent with the public's right to know.

d. Disclosure of records about current or former Postal Service employees may be made to requesting states under an approved computer matching program to determine employee participation in, and eligibility under, unemployment insurance programs administered by the states (and by those states to local governments), to improve program integrity, and to collect debts and overpayments owed to those governments and their components.

e. Disclosure of records about current or former Postal Service employees may be made to requesting federal agencies or nonfederal entities under approved computer matching programs to make a determination of employee participation in, and eligibility under, particular benefit programs administered by those agencies or entities or by USPS; to improve program integrity; to collect debts and overpayments owed under those programs and to provide employees with due process rights prior to initiating any salary offset; and to identify those employees who are absent parents owing child support obligations and to collect debts owed as a result.

f. Disclosure of records about current or former Postal Service employees may be made, upon request, to the Department of Defense (DoD) under approved computer matching programs to identify Postal Service employees who are ready reservists for the purposes of updating DoD's listings of ready reservists and to report reserve status information to USPS and the Congress; and to identify retired military employees who are subject to restrictions under the Dual Compensation Act and to take subsequent actions to reduce military retired pay or collect debts and overpayments.

g. Disclosure of records may be made to the Internal Revenue Service under approved computer matching programs to identify current or former Postal Service employees who owe delinquent federal taxes or returns and to collect the unpaid taxes by levy on the salary of those individuals pursuant to Internal Revenue Code; and to make a determination as to the proper reporting of income tax purposes of an employee's wages, expenses, compensation, reimbursement, and taxes withheld and to take corrective action as warranted.

h. Disclosure of the records about current or recently terminated Postal Service employees may be made to the Department of Transportation (DOT) under an approved computer matching program to identify individuals who appear in DOT's National Driver Register Problem Driver Pointer System. The matching results are used only to determine as a general matter whether commercial license suspension information within the pointer system would be beneficial in making selections of USPS motor vehicle and tractor-trailer operator personnel and will not be used for actual selection decisions.

i. Disclosure of records about current or former Postal Service employees may be made to the Department of Health and Human Services under an approved computer matching program for further release to state child support enforcement agencies when needed to locate noncustodial parents, to establish and/or enforce child support obligations, and to locate parents who may be involved in parental kidnapping or child custody cases.

j. Disclosure of records about current or former Postal Service employees may be made to the Department of the Treasury under Treasury Offset Program computer matching to establish the identity of the employee as an individual owing a delinquent debt to another federal agency and to offset the salary of the employee to repay that debt.

k. Disclosure of employment and wage data records about current Postal Service employees may be made to the Bureau of Labor Statistics for use in their Occupational Employment Statistics program for the purpose of developing estimates of the number of jobs in certain occupations, and estimates of the wages paid to them.

l. Disclosure of W-2 and 1095-C tax information records to external third party tax preparation services.

m. Disclosure of the employee name and past or present grade, duty station, dates of employment, job title, and salary information may be made to a credit bureau or other commercial firm from which a current or former postal employee is seeking credit.

n. Disclosure of a current or former postal employee's name and past or present grade, duty station, dates of employment, job title, salary information, date and reason for separation may be made to a prospective employer upon request. With respect to former employees, the reason for separation must be limited to one of the following terms: Retired, resigned, or separated.

POLICIES AND PRACTICES FOR STORAGE OF RECORDS:

Automated database, computer storage media, digital files, and paper files.

POLICIES AND PRACTICES FOR RETRIEVAL OF RECORDS:

By employee name, Social Security Number, Employee Identification Number, occupation code, occupation title, or duty or pay location.

POLICIES AND PRACTICES FOR RETENTION AND DISPOSAL OF RECORDS:

1. Leave application and unauthorized overtime records are retained 3 years. Time and attendance records (other than payroll) and local payroll records are retained 3 years. Automated payroll records are retained 10 years.

2. Uniform allowance case files are retained 3 years; and automated records are retained 6 years.

3. Records of monetary awards with a status that they have been processed, processing failed, cancelled, and reported (Service Award Pins, Retirement Service Awards, Posthumous Service Awards) are retained 7 years, as payroll records would have been affected/processed. Records of award submissions with the status approved, deleted, and/or draft are retained 31 days, as payroll records would not have been affected/processed.

4. Records of employee submitted ideas are maintained for 90 days after being closed.

5. Injury compensation records are retained 5 years. Records resulting in affirmative identifications become part of a research case file, which if research determines applicability, become either part of an investigative case record or a remuneration case record that is retained 2 years beyond the determination.

6. Monetary claims records are retained 3 years.

7. Automated records of garnishment cases are retained 6 months. Records located at a Post Office are retained 3 years.

8. Overtime administrative records are retained for 7 years.

9. Tax preparation records are limited to an employee's previous year's wages, tax documentation and health insurance coverage as required by the Affordable Care Act

Records existing on paper are destroyed by burning, pulping, or shredding. Records existing on computer storage media are destroyed according to the applicable USPS media sanitization practice.

ADMINISTRATIVE, TECHNICAL, AND PHYSICAL SAFEGUARDS:

Paper records, computers, and computer storage media are located in controlled-access areas under supervision of program personnel. Access to these areas is limited to authorized personnel, who must be identified with a badge. Access to records is limited to individuals whose official duties require such access. Contractors and licensees are subject to contract controls and unannounced on-site audits and inspections. Computers are protected by mechanical locks, card key systems, or other physical access control methods. The use of computer systems is regulated with installed security software, computer logon identifications, and operating system controls including access controls, terminal and transaction logging, and file management software.

RECORD ACCESS PROCEDURES:

Requests for access must be made in accordance with the Notification Procedure above and USPS Privacy Act regulations regarding access to records and verification of identity under 39 CFR 266.6.

CONTESTING RECORD PROCEDURES:

See Notification Procedures below and Record Access Procedures above.

NOTIFICATION PROCEDURES:

Individuals wanting to know if information about them is maintained in this system must address inquiries to the facility head where currently or last employed. Headquarters employees must submit inquiries to Corporate Personnel Management, 475 L'Enfant Plaza SW, Washington, DC 20260. Inquiries must include full name, Social Security Number or Employee Identification Number, name and address of facility where last employed, and dates of USPS employment.

EXEMPTIONS PROMULGATED FOR THE SYSTEM:

Records in this system relating to injury compensation that have been compiled in reasonable anticipation of a civil action or proceeding are exempt from individual access as permitted by 5 U.S.C. 552a(d)(5). The USPS has also claimed exemption from certain provisions of the Act for several of its other systems of records at 39 CFR 266.9. To the extent that copies of exempted records from those other systems are incorporated into this system, the exemptions applicable to the original primary system continue to apply to the incorporated records.

HISTORY:

February 23, 2017, 82 FR 11489; March 2, 2015, 80 FR 11241; June 17, 2011, 76 FR 35483; April 29, 2005, 70 FR 22516.

* * * * *

Brittany M. Johnson,
Attorney, Federal Compliance.

[FR Doc. 2019-03183 Filed 2-22-19; 8:45 am]

BILLING CODE 7710-12-P